DEPARTMENT OF TRANSPORTATION

Office of the Secretary

Aviation Proceedings, Agreements Filed During Week Ending March 23, 2001

The following Agreements were filed with the Department of Transportation under provisions of 49 U.S.C. 412 and 414. Answers may be filed within 21 days after the filing of the application.

Docket Number: OST-2001-9213.

Date Filed: March 20, 2001.

Parties: Members of the International Air Transport Association.

Subject: CTC2 EUR 0008, dated March 20, 2001, Mail Vote 117—TC2 Within Europe Cargo Resolutions (Amending), Intended effective date: April 1, 2001.

Docket Number: OST-2001-9215.

Date Filed: March 21, 2001.

Parties: Members of the International Air Transport Association.

Subject: PTC12 MATL-EUR 0050 dated February 9, 2001, TC12 Mid Atlantic-Europe Resolutions r1-r30, PTC12 MATL-EURO 0051 dated March 13, 2001, (Extension Filing Period), Minutes—PTC12 MATL-EURO 0052, dated March 16, 2001, Tables—PTC12 MATL-EUR Fares 0017, dated February 13, 2001, Intended effective date: April 1, 2001.

Docket Number: OST-2001-9226.

Date Filed: March 22, 2001.

Parties: Members of the International Air Transport Association.

Subject: PTC12 NMS-AFR 0104 dated March 20, 2001, TC12 South Atlantic-Africa Expedited Resolution 002xx Intended effective date: April 15, 2001.

Dorothy Y. Beard,
Federal Register Liaison.

[FR Doc. 01-8761 Filed 4-9-01; 8:45 am]

BILLING CODE 4910-62-P